DEPARTMENT OF ENERGY

Blue Ribbon Commission on America's Nuclear Future, Transportation and Storage Subcommittee

AGENCY: Office of Nuclear Energy, Department of Energy.

ACTION: Notice of Open Meeting.

SUMMARY: This notice announces an open meeting of the Transportation and Storage (T&S) Subcommittee. The T&S Subcommittee is a subcommittee of the Blue Ribbon Commission on America's Nuclear Future (the Commission). The establishment of subcommittees is authorized in the Commission's charter. The Commission was organized pursuant to the Federal Advisory Committee Act (Pub. L. 92-463, 86 Stat. 770) (the Act). This notice is provided in accordance with the Act.

DATES: Tuesday, November 2, 2010, 8 a.m.-1:20 p.m.

ADDRESSES: Wyndham Chicago, 633 North St. Clair Street, Chicago, Illinois 60611, Telephone: 312-573-0300.

FOR FURTHER INFORMATION CONTACT: Timothy A. Frazier, Designated Federal Officer, U.S. Department of Energy, 1000 Independence Avenue, SW., Washington, DC 20585; telephone (202) 586-4243 or facsimile (202) 586-0544; e-mail CommissionDFO@nuclear.energy.gov. Additional information will be available at http://www.brc.gov.

SUPPLEMENTARY INFORMATION: Background: The President directed that the Commission be established to conduct a comprehensive review of policies for managing the back end of the nuclear fuel cycle. The Commission will provide advice and make recommendations on issues including alternatives for the storage, processing, and disposal of civilian and defense spent nuclear fuel and nuclear waste.

The Co-chairs of the Commission requested the formation of the T&S Subcommittee to answer the question: “[s]hould the US change the way in which it is storing used nuclear fuel and high level waste while one or more final disposal locations are established?”

Purpose of the Meeting: The meeting will explore specific issues related to the safe storage and transportation of spent/used nuclear fuel in the Midwest. Discussion items will include the findings and recommendations of recent technical studies, and will include input from State and local officials responsible for public safety, emergency preparedness, and law enforcement.

Tentative Agenda: The meeting is expected to begin at approximately 8 a.m. on Tuesday, November 2, 2010, with Subcommittee Co-chairs' opening statements and then speaker presentations and panel discussions beginning ending at approximately 12:20 p.m. A public comment period will be held from 12:20 p.m. to 1:20 p.m.

Public Participation: Subcommittee meetings are not required to be open to the public; however, the Commission has elected to open the presentation sessions of the meeting to the public. Individuals and representatives of organizations who would like to offer comments and suggestions may do so at the end of the public session on Tuesday, November 2, 2010. Approximately 1 hour will be reserved for public comments from 12:20 p.m. to 1:20 p.m. Time allotted per speaker will depend on the number who wish to speak but will not exceed 5 minutes. The Designated Federal Officer is empowered to conduct the meeting in a fashion that will facilitate the orderly conduct of business. Those wishing to speak should register to do so beginning at 8 a.m. on November 2, 2010, at the Wyndham Chicago. Registration will close at noon on November 2, 2010.

Those not able to attend the meeting or have insufficient time to address the subcommittee are invited to send a written statement to Timothy A. Frazier, U.S. Department of Energy 1000 Independence Avenue, SW., Washington DC 20585, e-mail to CommissionDFO@nuclear.energy.gov, or post comments on the Commission Web site at http://www.brc.gov.

Additionally, the meeting will be available via live video webcast. The link will be available at http://www.brc.gov.

Minutes: The minutes of the meeting will be available at http://www.brc.gov or by contacting Mr. Frazier. He may be reached at the postal address or e-mail address above.

Issued in Washington, DC, on October 15, 2010.
Rachel Samuel,
Deputy Committee Management Officer.

[FR Doc. 2010-26476 Filed 10-19-10; 8:45 am]

BILLING CODE 6450-01-P